DEPARTMENT OF THE INTERIOR

National Park Service

30-Day Notice of Submission to the Office of Management and Budget; Opportunity for Public Comment

AGENCY: National Park Service, Department of the Interior.

ACTION: Notice and request for comments.

SUMMARY: Under provisions of the Paperwork Reduction Act of 1994 (44 U.S.C. 3507) and 5 CFR part 1320, Reporting and Recordkeeping Requirements, the National Park Service (NPS) invites public comments on a revision of a currently approved collection of information (OMB No. 1024-0236).

DATES: Public Comments on the Information Collection Request (ICR) will be accepted on or before July 26, 2007.

ADDRESSES: You may submit comments directly to the Desk Officer for the Department of the Interior (OMB No. 1024-0236), Office of Information and Regulatory Affairs, OMB, by fax at 202/395-6566 or by electronic mail at oria_docket@omb.eop.gov. Please also send a copy of your comments to Dr. John Dennis, Natural Resources (Room 11160), NPS, 1201 Eye Street, NW., Washington, DC 20005; Phone: 202/513-7174; fax 202/371-2131: e-mail: WASO_NRSS_researchcoll@nps.gov.

FOR FURTHER INFORMATION CONTACT: Bill Commins, NPS, Natural Resources (Room 25), 1201 Eye Street, NW., Washington, DC 20005. Phone: 202/513-7166; Fax: 202/371-2131; e-mail: bill_commins@nps.gov. You may obtain additional information about the application and annual reporting forms and existing guidance and explanatory material from the NPS Research Permit and Reporting System Web site at: http://science.nature.nps.gov/research. Your are entitled to a copy of the entire ICR package free of charge. Copies of the information collection request may be obtained by contacting Dr. John Dennis at the address above.

Comments Received on the 60-Day Federal Register Notice: On March 8, 2007, the NPS published a notice in the Federal Register to solicit comments on the proposed ICR to extend three existing NPS information collection instruments that are processed by the existing, Internet-based Research Permit and Reporting System (see 72 FR: 10553-10554). NPS also contacted by e-mail 3,588 non-Federal and Federal permittees and permit applicants who were active in calendar years 2006 and 2007, posted on the RPRS Web site notice of the availability of this review opportunity, and sent an internal memorandum to the NPS Natural Resource Advisory Group to solicit comments from the members of that group.

NPS received 13 responses from the public in response to the Federal Register notice and subsequent e-mail messages requesting comments. These responses provided a diversity of thoughts, which included (1) the requested information and time needed to fill out the forms are reasonable; (2) the on-line application process is efficient and straight forward; (3) the forms and the ability to access on-line and report on-line make the application and compliance process very easy; (4) the park review and decision process is difficult and onerous; (5) too much documentation is required; (6) having each park make its own permit decision is unnecessarily piecemeal, arbitrary, and burdensome; and (7) it is difficult to figure out how to submit “things”. Five respondents specifically addressed the education application and permit, saying that it would have benefits or offering ideas about what types of education activities should receive specific types of consideration, such as (a) simplifying the application process, (b) how to treat specimen collections, (c) allowing for different treatment for different types of activities, (d) offering the ability to change the program leader without reissuing a permit, and (e) offering a fee waiver for permitted education activities. Several respondents discussed matters outside this request for review, including (1) urging NPS to change its collection ownership procedure; and (2) requesting the NPS to issue permits on a Service, rather than park, basis.

Actual NPS and researcher use of the Internet-based system over the past three years has yielded few complaints and has earned a number of kudos. This use also has yielded suggestions from both respondents and government employees for making the information collection forms or software more efficient or more usable. These suggestions have been accumulated and some have been incorporated through ongoing software and technical support improvements. Such receipt of, and action on, user suggestions, constitutes ongoing consultation with people (applicants and permittees) from whom information is being collected and by whom collected information is being applied (NPS) personnel and users of the Investigator's Annual Report site). Should OMB approve the collection of information forms submitted in this extension request, additional software changes will be made to incorporate fully the improvements contained in these forms.

If you comment to NPS via electronic mail, please submit your comments as an attached ASCII or MSWord file and avoid the use of special characters and any form of encryption. Please also include “Attn: NPS Research Permit and Reporting System” and your name and return address in your e-mail message. If you would like, but do not receive, a confirmation from the system that we have received your e-mail message, contact us directly at the NPS phone number given here.

SUPPLEMENTARY INFORMATION:

Title: Research Permit and Reporting System Collection of Information (Application for a Scientific Research and Collecting Permit; Application for a Science Education Permit; Investigator's Annual Report) (re: 36 CFR 2.1 and 2.5).

Bureau Form Number(s): Application for a Scientific Research and Collecting Permit: 10-741a; Application for a Science Education Permit: 10-741b; Investigator's Annual Report: 10-226.

OMB Number: 1024-0236.

Expiration Date: June 30, 2007.

Type of Request: Revision of a currently approved collection of information.

Description of Need: The NPS regulates scientific research and collecting studies and science education activities inside park boundaries under regulations codified at 36 CFR Part 2, Section 2.5. The NPS issued these regulations pursuant to authority under the NPS Organic Act 1916 as amended (16 U.S.C. 1 et seq.). The NPS administers these regulations to provide for scientific research and collecting and scientific education uses of parks while also protecting park resources and other park uses from adverse impacts that could occur if inappropriate scientific research and collecting studies or science education activities were to be conducted within park boundaries.

Frequency of collection: On occasion.

Description of respondents: Individual scientific investigators or science educators from other governmental agencies, universities and colleges, schools, research organizations, and science education organizations who apply for a permit and any members of this group who receive a permit and then must submit the required annual report of accomplishment.

Estimated average number of respondents: 6,500 per year.

Estimated average number of responses: Two responses per year per respondent for an annual total of 13,000 responses. For each permit cycle, each respondent will respond usually once to prepare and submit the application for a permit and respondents who are successful in being issued a permit will respond a second time to submit the required investigator's Annual Report. Given that most applicants are successful in being issued a permit and that permit renewal usually occurs annually, the number of responses will approach a total that is two times the number of respondents.

Estimated average time burden per respondent: NPS estimates the reporting burden for this collection of information, including both the relevant application and the annual report, will average 1.625 hours per respondent per year.

Frequency of response: 2 per respondent per year.

Estimated total annual reporting burden: 10,560 hours. This number assumes 6,500 respondents each take about 0.75 hours to complete the automated application form (including reading the guidance material), up to 6,500 successful applicants each take 0.25 hours to sign the issued permit and return it to the park, and up to 6,500 permittees each take 0.25 hours to complete the automated Investigator's Annual Report form, including reading the instructions. In addition, this number includes 0.25 hours each for approximately 1,500 respondents to copy and process documents that cannot be submitted electronically, and 0.5 hours each for up to 1,500 respondents to prepare the portion of the Application for a Scientific Research and Collecting Permit that requires coordination with one or more non-NPS museums or other specimen repositories. Those few applicants who will be unable to process their applications and report forms electronically likely will spend a longer amount of time completing each form manually.

Comments are invited on: (1) The practical utility of the information being gathered; (2) the validity and accuracy of the reporting burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: May 23, 2007.
Leonard E. Stowe,
NPS, Information Collection Clearance Officer.

[FR Doc. 07-3108 Filed 6-25-07; 8:45 am]

BILLING CODE 4310-EJ-M